DEPARTMENT OF COMMERCE

[I.D. 022802B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Pacific Billfish Angler Survey.

Form Number(s): NOAA Form 88-10.

OMB Approval Number: 0648-0020.

Type of Request: Regular submission.

Burden Hours: 63.

Number of Respondents: 750.

Average Hours Per Response: 5 minutes.

Needs and Uses: Volunteer recreational anglers are asked to report on their fishing catch and effort for billfish throughout the Pacific area. The information received is used to study the health and activity of the billfish resources in the Pacific.

Affected Public: Individuals or households.

Frequency: Annually.

Respondent's Obligation: Voluntary.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 26, 2002.
Madeleine Clayton,
Departmental Paperwork Clearance Officer, Office of the Chief Information Officer.

[FR Doc. 02-5231 Filed 3-4-02; 8:45 am]

BILLING CODE 3510-22-S

]